ENVIRONMENTAL PROTECTION AGENCY

40 CFR Part 271

[FRL-7493-3 ]

Virginia: Final Authorization of State Hazardous Waste Management Program Revision

AGENCY: Environmental Protection Agency (EPA).

ACTION: Withdrawal of immediate final rule.

SUMMARY: EPA is withdrawing the immediate final rule for Virginia: Final Authorization of State Hazardous Waste Management Program Revision published on March 13, 2003, which would have authorized changes to Virginia's hazardous waste program under the Resource Conservation and Recovery Act (RCRA). EPA stated in the immediate final rule that if EPA received written comments that opposed this authorization during the comment period, EPA would publish a timely notice of withdrawal in the Federal Register. Since EPA did receive comments that opposed this authorization, EPA is withdrawing the immediate final rule. EPA will address these comments in a subsequent final action based on the proposed rule also published on March 13, 2003, at 68 FR 12015.

DATES: As of May 2, 2003, EPA withdraws the immediate final rule published on March 13, 2003, at 68 FR 11981.

FOR FURTHER INFORMATION CONTACT: Joanne Cassidy, Mailcode 3WC21, RCRA State Programs Branch, U.S. EPA Region III, 1650 Arch Street, Philadelphia, PA 19103-2029, Phone number: (215) 814-3381.

SUPPLEMENTARY INFORMATION: Because EPA received written comments that opposed this authorization, EPA is withdrawing the immediate final rule for Virginia: Final Authorization of State Hazardous Waste Management Program Revision published on March 13, 2003, at 68 FR 11981, which would have authorized changes to Virginia's hazardous waste rules. EPA stated in the immediate final rule that if EPA received written comments that opposed this authorization during the comment period, EPA would publish a timely notice of withdrawal in the Federal Register. Since EPA received comments that opposed this action, today EPA is withdrawing the immediate final rule. EPA will address the comments received during the comment period in a subsequent final action based on the proposed rule also published on March 13, 2003. EPA will not provide for additional public comment during the final action.

Dated: April 25, 2003.
James W. Newsom,
Acting Regional Administrator, EPA Region III.

[FR Doc. 03-10893 Filed 5-1-03; 8:45 am]

BILLING CODE 6560-50-P